DEPARTMENT OF HEALTH AND HUMAN SERVICES

Meeting of the 2018 Physical Activity Guidelines Advisory Committee

AGENCY: Office of Disease Prevention and Health Promotion, Office of the Assistant Secretary for Health, Office of the Secretary, Department of Health and Human Services.

ACTION: Notice.

SUMMARY: As stipulated by the Federal Advisory Committee Act (FACA), the U.S. Department of Health and Human Services (HHS) is hereby giving notice that the fourth meeting of the 2018 Physical Activity Guidelines Advisory Committee (2018 PAGAC or Committee) will be held. This meeting will be open to the public via video cast.

DATES: The meeting will be held on July 19, 2017, from 1:00 p.m. E.D.T. to 5:00 p.m. E.D.T., on July 20, 2017, from 8:00 a.m. to 5:00 p.m. E.D.T., and on July 21, 2017, from 8:00 a.m. E.D.T. to 11:00 a.m. E.D.T.

ADDRESSES: The meeting will be accessible by video cast on the Internet.

FOR FURTHER INFORMATION CONTACT: Designated Federal Officer, 2018 Physical Activity Guidelines Advisory Committee, Richard D. Olson, M.D., M.P.H. and/or Alternate Designated Federal Officer, Katrina L. Piercy, Ph.D., R.D., Office of Disease Prevention and Health Promotion (ODPHP), Office of the Assistant Secretary for Health (OASH), HHS; 1101 Wootton Parkway, Suite LL-100; Rockville, MD 20852; Telephone: (240) 453-8280. Additional information is available at www.health.gov/paguidelines.

SUPPLEMENTARY INFORMATION: The inaugural Physical Activity Guidelines for Americans (PAG), issued in 2008, represents the first comprehensive guidelines on physical activity issued by the federal government. The PAG serves as the benchmark and primary, authoritative voice of the federal government for providing science-based guidance on physical activity, fitness, and health for Americans. The second edition of the PAG will build upon the first edition and provide a foundation for federal recommendations and education for physical activity programs for Americans, including those at risk for chronic disease.

Description of the Committee's Mission and Composition: The 2018 PAGAC was established to perform a single, time-limited task. The work of the Committee is solely advisory in nature. The Committee is charged to examine the current PAG, take into consideration new scientific evidence and current resource documents, and develop a scientific report to the Secretary of HHS that outlines its science-based advice and recommendations for development of the second edition of the PAG. The Committee consists of 17 members, who were appointed by the Secretary in June 2016. Information on the Committee membership is available at www.health.gov/paguidelines/second-edition/committee/.

It is planned for the Committee to hold five meetings to accomplish its mission. The first meeting was held in July 2016, the second meeting was held in October 2016, and the third meeting was held in March 2017. It is planned for the fifth meeting of the Committee to be held during the third week in October 2017. It is stipulated in the charter that the Committee will be terminated after delivery of its report to the Secretary of HHS or two years from the date the charter was filed, whichever comes first.

Purpose of the Meeting: In accordance with FACA and to promote transparency of the process, deliberations of the Committee will occur in a public forum. At this meeting, the Committee will continue its deliberations from the last public meeting.

Meeting Agenda: The meeting will include review of subcommittee work since the last public meeting and deliberation by the full Committee, discussion of overarching issues, and plans for future Committee work.

Meeting Registration: The meeting is open to the public via video cast; pre-registration is required. To register, please visit www.health.gov/paguidelines. After registration, individuals will receive video cast access information via email. To request a special accommodation, please email jennifer.gillissen@kauffmaninc.com.

Public Comments and Meeting Documents: Written comments from the public are being accepted throughout the Committee's deliberative process and can be submitted and/or viewed at www.health.gov/paguidelines/pcd/. Documents pertaining to Committee deliberations, including meeting agendas and summaries are available on www.health.gov/paguidelines. Meeting information will continue to be accessible online and upon request at the Office of Disease Prevention and Health Promotion, OASH/HHS; 1101 Wootton Parkway, Suite LL100 Tower Building; Rockville, MD 20852; Telephone: (240) 453-8280; Fax: (240) 453-8281.

Dated: May 17, 2017.
Don Wright,
Deputy Assistant Secretary for Health, (Disease Prevention and Health Promotion).

[FR Doc. 2017-11898 Filed 6-7-17; 8:45 am]

BILLING CODE 4150-32-P